Title 3—

The President

Proclamation 7925 of September 8, 2005

National Day of Prayer and Remembrance for the Victims of Hurricane Katrina

By the President of the United States of America

A Proclamation

Hurricane Katrina was one of the worst natural disasters in our Nation's history and has caused unimaginable devastation and heartbreak throughout the Gulf Coast Region. A vast coastline of towns and communities has been decimated. Many lives have been lost, and hundreds of thousands of our fellow Americans are suffering great hardship. To honor the memory of those who lost their lives, to provide comfort and strength to the families of the victims, and to help ease the burden of the survivors, I call upon all Americans to pray to Almighty God and to perform acts of service.

As we observe a National Day of Prayer and Remembrance for the Victims of Hurricane Katrina, we pledge our support for those who have been injured and for the communities that are struggling to rebuild. We offer thanks to God for the goodness and generosity of so many Americans who have come together to provide relief and bring hope to fellow citizens in need. Our Nation is united in compassion for the victims and in resolve to overcome the tremendous loss that has come to America. We will strive together in this effort, and we will prevail through perseverance and prayer.

Americans are reaching out to those who suffer by opening their hearts, homes, and communities. Their actions demonstrate the greatest compassion one person may show to another: to love your neighbor as yourself. Across our Nation, so many selfless deeds reflect the promise of the Scripture: “For I was hungry and you gave Me food; I was thirsty and you gave Me drink; I was a stranger and you took Me in.” I encourage all Americans to respond with acts of kindness in the days ahead. By contributing time, money, or needed goods to a relief organization and by praying for the survivors and those in recovery efforts, we can make a tremendous difference in the lives of those in need.

Hurricane Katrina and its aftermath resulted in a considerable loss of life. We pray that God will bless the souls of the lost, and that He will comfort their families and friends and all lives touched by this disaster. As the American people unite to help those who are hurting, we share a determination to stand by those affected by Hurricane Katrina in the months and years ahead as they rebuild their lives and reclaim their future. We are determined that the Gulf Coast region will rise again. The tasks before us are enormous, and so is the heart of America. We will continue to comfort and care for the survivors. We will once again show the world that the worst adversities bring out the best in the American people.

NOW, THEREFORE, I, GEORGE W. BUSH, President of the United States of America, by virtue of the authority vested in me by the Constitution and laws of the United States, do hereby proclaim Friday, September 16, 2005, as a National Day of Prayer and Remembrance for the Victims of Hurricane Katrina. I ask that the people of the United States and places of worship mark this National Day of Prayer and Remembrance with memorial services and other appropriate observances. I also encourage all Americans to remember those who have suffered in the disaster by offering prayers and giving their hearts and homes for those who now, more than ever, need our compassion and our support.

IN WITNESS WHEREOF, I have hereunto set my hand this eighth day of September, in the year of our Lord two thousand five, and of the Independence of the United States of America the two hundred and thirtieth.

B

[FR Doc. 05-18286

Filed 9-12-05; 8:45 am]

Billing code 3195-01-P